DEPARTMENT OF HEALTH AND HUMAN SERVICES

Agency for Toxic Substances and Disease Registry

[ATSDR-207]

Public Health Assessments Completed

AGENCY: Agency for Toxic Substances and Disease Registry (ATSDR), Department of Health and Human Services (HHS).

ACTION: Notice.

SUMMARY: This notice announces those sites for which ATSDR has completed public health assessments during the period from July through September 2004. This list includes sites that are on or proposed for inclusion on the National Priorities List (NPL), and includes sites for which assessments were prepared in response to requests from the public.

FOR FURTHER INFORMATION CONTACT: William Cibulas, Jr., Ph.D., Director, Division of Health Assessment and Consultation, Agency for Toxic Substances and Disease Registry, 1600 Clifton Road, NE., Mailstop E-32, Atlanta, Georgia 30333, telephone (404) 498-0140.

SUPPLEMENTARY INFORMATION: The most recent list of completed public health assessments was published in the Federal Register on August 13, 2004 [69 FR 50204]. This announcement is the responsibility of ATSDR under the regulation “Public Health Assessments and Health Effects Studies of Hazardous Substances Releases and Facilities” [42 CFR part 90]. This rule sets forth ATSDR's procedures for the conduct of public health assessments under section 104(i) of the Comprehensive Environmental Response, Compensation, and Liability Act (CERCLA), as amended by the Superfund Amendments and Reauthorization Act (SARA) [42 U.S.C. 9604(i)].

Availability

The completed public health assessments are available for public inspection at the Division of Health Assessment and Consultation, Agency for Toxic Substances and Disease Registry, 1825 Century Boulevard, Atlanta, Georgia (not a mailing address), between 8 a.m. and 4:30 p.m., Monday through Friday except legal holidays. The completed public health assessments are also available by mail through the U.S. Department of Commerce, National Technical Information Service (NTIS), 5285 Port Royal Road, Springfield, Virginia 22161, or by telephone at (800) 553-6847. NTIS charges for copies of public health assessments. The NTIS order numbers are listed in parentheses following the site names.

Public Health Assessments Completed or Issued

Between July 1, 2004, and September 30, 2004, public health assessments were issued for the sites listed below:

NPL and Proposed NPL Sites

California

Del Amo Superfund Site—(PB2004-106757).

Lawrence Livermore National Laboratory, Main Site (USDOE)—(PB2004-106383).

Minnesota

Baytown Township Groundwater Contamination Site (a/k/a Baytown Township Ground Water Plume)—(PB2005-100068).

Ohio

FEED Materials Production Center [(USDOE) a/k/a Fernald Environmental Management Project)]—(PB2004-107099).

Oregon

Harbor Oil Incorporated—(PB2004-106759).

Virginia

Naval Weapons Station Yorktown, Cheatham Annex—(PB2004-100064).

Vermont

Elizabeth Copper Mine—(PB2005-100247).

Non-NPL Petitioned Sites

California

Abex/Remco Hydraulics Facility (a/k/a Abex Corporation Remco Hydraulics Plant)—(PB2004-106802).

Connecticut

Newhall Street Neighborhood (aliases: Bryden and Morse Streets Residential Properties; Rosem Site Residential Properties)—(PB2005-100062).

Georgia

Young Refining Corporation—(PB2004-106758).

Guam

Agana Power Plant—(PB2004-100066).

Illinois

Bordner Manufacturing Company—(PB2005-100067).

Northern Mariana Islands, Commonwealth of the

Saipan Capacitors [a/k/a Tanapag Village (Saipan)]—(PB2005-100063).

Ohio

Gentile Air Force Station (a/k/a USDOD Defense Electronics Supply Center)—(PB2004-107098).

Tennessee

Volunteer Army Ammunition Plant—(PB2005-100065).

Texas

Kelly Air Force Base—(PB2004-106801).

Dated: November 19, 2004.
Georgi Jones,
Director, Office of Policy, Planning, and Evaluation, National Center for Environmental Health, Agency for Toxic Substances and Disease Registry.

[FR Doc. 04-26318 Filed 11-26-04; 8:45 am]

BILLING CODE 4163-70-P